DEPARTMENT OF DEFENSE

Office of the Secretary

Base Closure and Realignment

AGENCY: Department of Defense, Office of Economic Adjustment.

ACTION: Notice.

SUMMARY: On October 23, 2006 the Department of Defense published a notice on Base Closure and Realignment. This notice corrects an error in the telephone number for Fort Hayes Memorial USARC.

FOR FURTHER INFORMATION CONTACT: Director, Office of Economic Adjustment, Office the Secretary of Defense, 400 Army Navy Drive, Suite 200, Arlington, VA 22202-43704, 703-604-6020.

Correction

In Federal Register at 71 FR 62096, telephone number for Ohio is corrected to read 614-645-8036.

Dated: October 27, 2006.
L.M. Bynum,
Alternate OSD Federal Register Liaison Officer, DoD.

[FR Doc. 06-9018 Filed 11-1-06; 8:45 am]

BILLING CODE 5001-06-M